OFFICE OF THE UNITED STATES TRADE REPRESENTATIVE

Generalized System of Preferences (GSP): Change in Hearing Date and Related Deadlines for the Country Practice Petitions Accepted as Part of the 2011 Annual GSP Review

AGENCY: Office of the United States Trade Representative.

ACTION: Notice of change to the hearing date and related deadlines.

SUMMARY: The hearing date previously announced in the Federal Register (77 FR 41209) for the country practice petitions accepted as part of the 2011 Annual GSP Review and the related deadlines for submissions of pre-hearing briefs, requests to appear, and post-hearing briefs are being changed to those noted below.

DATES: September 18, 2012: Deadline for submission of pre-hearing briefs and requests to appear at the October 2, 2012 public hearing; submissions must be received by 5 p.m.

October 2, 2012: The GSP Subcommittee of the Trade Policy Staff Committee (TPSC) will convene a public hearing on the country practice petitions at 1724 F Street NW., Washington, DC 20508, beginning at 9:30 a.m.

October 23, 2012: Deadline for submission of post-hearing briefs, which must be received by 5 p.m.

SUPPLEMENTARY INFORMATION: On July 12, 2012, a notice was published in the Federal Register (77 FR 41209) announcing, inter alia, that the hearing for the country practice petitions accepted as part of the 2011 Annual GSP Review was scheduled for September 27, 2012. The country practice petitions newly accepted in the 2011 Annual GSP Review concern practices of Fiji, Indonesia, Iraq, and Ukraine. Pre-hearing briefs and requests to appear at the hearing were due by September 13, 2012, and that post-hearing comments were due by October 18, 2012. This notice changes the aforementioned dates.

FOR FURTHER INFORMATION CONTACT: Tameka Cooper, GSP Program, Office of the United States Trade Representative, 600 17th Street NW., Washington, DC 20508. The telephone number is (202) 395-6971; the fax number is (202) 395-9674, and the email address is Tameka_Cooper@ustr.eop.gov.

James Sanford,
Assistant U.S. Trade Representative for Small Business, Market Access & Industrial Competitiveness, Office of the U.S. Trade Representative.

[FR Doc. 2012-20149 Filed 8-15-12; 8:45 am]

BILLING CODE 3290-W2-P